DEPARTMENT OF AGRICULTURE

Forest Service

Information Collection: Generic Clearance for Social Science and Economics Data Collections on Natural Disasters and Disturbances

AGENCY: Forest Service, USDA.

ACTION: Notice; request for comment.

SUMMARY: In accordance with the Paperwork Reduction Act of 1995, the Forest Service is seeking comments from all interested individuals and organizations on a new generic information collection request, Social Science and Economics Data Collections on Natural Disasters and Disturbances.

DATES: Comments must be received in writing on or before May 14, 2018 to be assured of consideration. Comments received after that date will be considered to the extent practicable.

ADDRESSES: Send written comments to Kenli Kim, National Program Leader for Social Science Research, Forest Service, 1400 Independence Ave., SW, Mailstop 1114, Washington, DC 20250-1114, or by electronic mail to PRAcomments@fs.fed.us, with “PRA comment on natural disasters and disturbances” in the subject line. If comments are sent by electronic mail, the public is requested not to send duplicate written comments via regular mail. Please confine written comments to issues pertinent to the information collection request, explain the reasons for any recommended changes, and, where possible, reference the specific section or paragraph being addressed.

All timely submitted comments, including names and addresses when provided, are placed in the record and are available for public inspection and copying. The public may inspect comments received on this information collection at the USDA Forest Service Headquarters, 201 14th St. SW, Washington, DC 20250 between the hours of 10:00 a.m. to 5:00 p.m. on business days. Those wishing to inspect comments should contact Kenli Kim (kkim@fs.fed.us) to facilitate an appointment and entrance to the building.

FOR FURTHER INFORMATION CONTACT: Kenli Kim, National Program Leader for Social Science Research at the Forest Service (kkim@fs.fed.us). Individuals who use telecommunication devices for the deaf (TDD) may call the Federal Relay Service (FRS) at 1-800-877-8339 twenty-four hours a day, every day of the year, including holidays.

SUPPLEMENTARY INFORMATION: Title: Generic Clearance for Social Science and Economics Data Collections on Natural Disasters and Disturbances

OMB Number: 0596—NEW.

Expiration Date of Approval: NEW.

Type of Request: NEW.

Abstract: The USDA Forest Service has broad responsibilities for caring for the forests and grasslands of the nation. This includes managing wildland fires and responding to many other threats such as droughts, floods, tree pests and diseases, invasive species, extreme weather events, effects of climate change, and other natural disasters and disturbances. The frequency, type, duration, and intensity of disturbances and disasters shape our forests and other natural ecosystems and impact people's lives. In any given year, a wide range of people living in all types of communities across the nation—rural, suburban, and urban; forested, industrical, and agricultural—are affected by natural disasters and disturbances.

This Generic Information Collection Request (ICR) seeks Office of Management and Budget (OMB) approval to collect information that will help the Forest Service understand how individuals, communities, and organizations prepare for, respond and adapt to, and recover from natural disturbances and disasters, as well as build resilience. This information is critical to supporting the Forest Service's mission of both managing national forests and grasslands and collaborating with others to develop useful guidelines for management of the nation's forests. Under this Generic ICR, social science research methods such as surveys, interviews, and focus groups will collect information from individuals and groups who are preparing for, responding to, and/or recovering from natural disasters and disturbances. Results from the proposed research and data collections can inform prediction, preparation, response, and recovery strategies and efforts by the Forest Service and other Federal agencies, as well as related local government, civil society, and community efforts. In the long term, such knowledge can contribute to fewer societal costs from disturbance processes, more cost-effective management efforts, and more resilient communities and economies. Any specific study conducted under this Generic ICR will be posted for public comment in The Federal Register for 30 days by the USDA Forest Service.

Estimate of Annual Burden on Respondents: 15,533 hours/year.

Type of Respondents: Participants/respondents will be individuals, not specific entities.

Estimated Annual Number of Respondents: 100,500 year.

Estimated Annual Number of Responses per Respondent: 1 response/respondent is anticipated.

Comment is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. The Forest Service will consider the comments received and amend the ICR as appropriate. The final ICR package will then be submitted to OMB for review and approval.

All comments received in response to this notice, including names and addresses when provided, will be a matter of public record. Comments will be summarized and included in the submission request for final Office of Management and Budget approval.

Dated: February 15, 2018.
Monica Lear,
Associate Deputy Chief, Research & Development.

[FR Doc. 2018-05004 Filed 3-12-18; 8:45 am]

BILLING CODE 3411-15-P